DEPARTMENT OF THE INTERIOR

Bureau of Land Management

[LLCAC07000 L10200000 EE0000]

Notice of Intent To Prepare an Environmental Assessment for Domestic Sheep Grazing on the Dog Creek and Green Creek Allotments, Mono County, CA, and Possible Land Use Plan Amendment

AGENCY: Bureau of Land Management, Interior.

ACTION: Notice of intent.

SUMMARY: In compliance with the National Environmental Policy Act (NEPA) of 1969, as amended, and the Federal Land Policy and Management Act (FLPMA) of 1976, as amended, the Bureau of Land Management (BLM) Bishop Field Office, Bishop, California intends to prepare an Environmental Assessment (EA), which may include an amendment to the Bishop Resource Management Plan (RMP), dated March 25, 1993. By this notice the Bishop Field Office is announcing the beginning of the scoping process to solicit public comments and identify issues.

DATES: This notice initiates the public scoping process for the EA and possible plan amendment. Comments on issues may be submitted in writing until June 1, 2010. The date(s) and location(s) of any scoping meetings will be announced at least 15 days in advance through local media and the BLM Web site at: http://www.blm.gov/ca/st/en/fo/bishop.html. In order to be considered in the EA, all comments must be received before the close of the scoping period or 15 days after the last public meeting, whichever is later. The BLM will provide additional opportunities for public participation upon publication of the EA.

ADDRESSES: You may submit comments on issues and planning criteria related to the EA and possible plan amendment by any of the following methods:

• Web site: http://www.blm.gov/ca/st/en/fo/bishop.html.

• E-mail: Jeffrey_Starosta@blm.gov.

• Fax: (760) 872-5050.

• Mail: BLM Bishop Field Office, 351 Pacu Lane, Suite 100, Bishop, California 93514, Attn: Jeff Starosta, Rangeland Management Specialist.

Documents pertinent to this proposal may be examined at the Bishop Field Office.

FOR FURTHER INFORMATION CONTACT: For further information and/or to have your name added to our mailing list, contact Jeff Starosta, Rangeland Management Specialist, telephone (760) 872-5032; mail BLM Bishop Field Office, 351 Pacu Lane, Suite 100, Bishop, California 93514; or e-mail Jeffrey_Starosta@blm.gov.

SUPPLEMENTARY INFORMATION: The BLM Bishop Field Office intends to prepare an EA that will evaluate a range of alternatives for grazing domestic sheep on the Dog Creek and Green Creek allotments in Mono County, California. The purpose of this action is to consider whether or not, or under what terms and conditions, to issue 10-year grazing permits for these two allotments. The selection of any alternative that would modify the mandatory terms and conditions of the allotments, or that would make all or portions of the allotments unavailable for grazing by domestic livestock, would not conform to the Bishop RMP, and would therefore require a plan amendment.

The Dog Creek allotment consists of approximately 6,527 acres of public land and 1,148 acres of private land. The Green Creek allotment consists of approximately 3,861 acres of public land, 160 acres of state land, and 364 acres of private land. The Dog Creek allotment includes the majority of the Conway Summit Area of Critical Environmental Concern. No threatened or endangered species are known to occur in the allotments and there is no designated critical habitat for any listed species in either allotment.

Sierra Nevada bighorn sheep (Ovis canadensis sierrae), a federally listed endangered species, inhabit the Sierra Nevada Range south and west of the two allotments. In the final Recovery Plan for the Sierra Nevada Bighorn Sheep (SNBS Recovery Plan), the U.S. Fish and Wildlife Service (FWS) recommended that the Dog Creek and Green Creek allotments be closed to domestic sheep grazing due to the risk of disease transmission between domestic sheep and bighorn sheep. These two allotments were specifically identified by the FWS as posing a high risk for disease transmission because of their proximity to occupied Sierra Nevada bighorn sheep habitat.

The purpose of the public scoping process is to determine relevant issues that will influence the scope of the environmental analysis, including alternatives, and guide the process for developing the EA. At present, the BLM has identified the following preliminary issues: livestock management; specially designated areas; cultural resources; recreation; invasive, non-native species; social and economic values; wetlands and riparian habitats; and vegetation and wildlife, including threatened, endangered, and sensitive species.

Preliminary planning criteria include:

• Incorporating the Central California Standards for Rangeland Health and Guidelines for Livestock Grazing Management;

• Complying with Appendix C of the BLM Land Use Planning Handbook (H 1601-1) in making resource specific determinations;

• Analyzing allotment closure recommendations provided by the FWS in the SNBS Recovery Plan;

• Developing any required plan amendment in compliance with the FLPMA, all other applicable laws, regulations, executive orders, and BLM supplemental program guidance;

• Considering the extent to which the action alternative and any required plan amendment supports the recovery goals outlined in the SNBS Recovery Plan; and

• Assuring that any required plan amendment is compatible, to the extent possible, with existing plans and policies of adjacent local, state, Tribal, and Federal agencies.

Authorization of any alternative analyzed in the EA may require amendment of the Bishop RMP, dated March 25, 1993. By this notice, the BLM is complying with requirements in 43 CFR 1610.2(c) to notify the public of potential amendments to land use plans, predicated on the findings of the EA. If a land use plan amendment is necessary, the BLM will integrate the land use planning process with the NEPA process for this project. The BLM will use and coordinate the NEPA commenting process to satisfy the public involvement process for Section 106 of the National Historic Preservation Act (16 U.S.C. 470f) as provided for in 36 CFR 800.2(d)(3). The BLM will conduct government-to government consultations with relevant Native American tribes in accordance with BLM policy, and will give tribal concerns, including impacts on Indian trust assets, due consideration. Federal, State, and local agencies, along with other stakeholders that may be interested or affected by the BLM's decision on this project are invited to participate in the scoping process and, if eligible, may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7; 43 CFR 1610.2, 1610.5-5, and 1610.7-2.

Bernadette Lovato,
Bishop Field Manager.

[FR Doc. 2010-9992 Filed 4-28-10; 8:45 am]

BILLING CODE 4310-40-P